DEPARTMENT OF DEFENSE

Department of the Navy

Notice of Availability of Government-Owned Inventions; Available for Licensing

AGENCY: Department of the Navy, DOD.

ACTION: Notice.

SUMMARY: The Department of the Navy hereby gives notice of the general availability of exclusive or partially exclusive licenses under the following pending patents. Any license granted shall comply with 35 U.S.C. 209 and 37 CFR Part 404. Applications will be evaluated utilizing the following criteria: (1) Ability to manufacture and market the technology; (2) manufacturing and marketing ability; (3) time required to bring technology to market and production rate; (4) royalties; (5) technical capabilities; and (6) small business status.

The following patent and patent applications are available for licensing:

U.S. Patent Application Serial No. 09/802,531: METHOD OF MAKING SHAPED PIEZOELECTRIC COMPOSITE TRANSDUCER; filed 8 March 2001.//U.S. Patent Application Serial No. 09/724,402: METHOD AND APPARATUS FOR DIAGNOSING SLEEP BREATHING DISORDERS WHILE A PATIENT IS AWAKE; filed 28 November 2000.//U.S. Patent Application Serial No. 09/632,012: A MAGNESIUM ANODE, SEAWATER/ACID/CATHOLYTE ELECTROLYTE, UTILIZING A PASSADIUM AND IRIDIUM CARBON PAPER CATHODE ELECTROCHEMICAL SYSTEM; filed 28 July 2000.//Patent Cooperation Treaty (PCT) filed 27 November 2001 for DIAGNOSIS OF SLEEP BREATHING DISORDERS, Navy Case Number 83557; and U.S. Patent Number 6,249,762: METHOD FOR SEPARATION OF DATA INTO NARROWBAND AND BROADBAND TIME SERIES COMPONENTS; issued 19 June 2001.

DATES: Applications for an exclusive or partially exclusive license may be submitted at any time from the date of this notice.

FOR FURTHER INFORMATION CONTACT: Dr. Theresa A. Baus, Office of Technology Transfer, Naval Undersea Warfare Center, 1176 Howell St., Newport, RI 02841, telephone (401) 832-8728 or E-Mail at bausta@npt.nuwc.navy.mil.

(Authority: 35 U.S.C. 207, 37 CFR Part 404)

Dated: February 20, 2002.
T.J. Welsh,
Lieutenant Commander, Judge Advocate General's Corps, U.S. Navy, Federal Register Liaison Officer.

[FR Doc. 02-4584 Filed 2-26-02; 8:45 am]

BILLING CODE 3810-FF-M